DEPARTMENT OF ENERGY

Federal Energy Regulatory Commission

[Docket No. OA08-40-000; Docket No. OA08-31-000; Docket No. OA08-56-000]

PacifiCorp; NorthWestern Corporation; NorthWestern Corporation; Notice of FERC Staff Attendance

January 22, 2008.

The Federal Energy Regulatory Commission (Commission) hereby gives notice that on the January 24, 2008, members of its staff will attend a stakeholder meeting sponsored by a number of transmission service providers in Northwestern United States. The purpose of the meeting is to coordinate transmission planning studies for a number of proposed transmission projects in the Northwest. The meeting will be held at the Portland, OR Airport Sheraton from 9 a.m. to 12 noon. The meeting is open to all stakeholders and staff's attendance is part of the Commission's ongoing outreach efforts. The meeting may discuss matters at issue in the above captioned dockets.

For further information, contact Saeed Farrokhpay at saeed.farrokhpay@ferc.gov; (916) 294-0233.

Kimberly D. Bose,
Secretary.

[FR Doc. E8-1591 Filed 1-29-08; 8:45 am]

BILLING CODE 6717-01-P